DEPARTMENT OF AGRICULTURE

Food and Nutrition Service

7 CFR Parts 271 and 274

RIN 0584-AE26

Supplemental Nutrition Assistance Program: Trafficking Controls and Fraud Investigations

AGENCY: Food and Nutrition Service, USDA.

ACTION: Final rule, Interim final rule; notice of approval of Information Collection Request (ICR).

SUMMARY: The rule entitled Supplemental Nutrition Assistance Program: Trafficking Controls and Fraud Investigations was published on August 21, 2013. The ICR for this rule approved the creation of a new information collection, which has been assigned the OMB Control Number 0584-0587. The Office of Management and Budget cleared the associated ICR on September 23, 2013. This document announces the approval of the ICR.

DATES: The ICR associated with the rule published in the Federal Register on August 21, 2013, at 78 FR 51649, was approved by OMB on September 23, 2013, under OMB Control Number 0584-0587.

FOR FURTHER INFORMATION CONTACT: Jane Duffield, Chief, State Administration Branch, Food and Nutrition Service, USDA, 3101 Park Center Drive, Alexandria, Virginia 22302, (703) 605-4385.

Dated: December 24, 2013.
Yvette S. Jackson,
Acting Administrator, Food and Nutrition Service.

[FR Doc. 2013-31354 Filed 12-30-13; 8:45 am]

BILLING CODE 3410-30-P